DEPARTMENT OF THE INTERIOR

Office of the Secretary

[MO 4500183156]

Notice of Adoption of Categorical Exclusions Under Section 109 of the National Environmental Policy Act

AGENCY: National Park Service, Interior.

ACTION: Notice.

SUMMARY: The National Park Service (NPS) is notifying the public and documenting the adoption of categorical exclusions (CEs) under section 109 of the National Environmental Policy Act (NEPA). The number of CEs adopted from each agency is as follows: five from the Federal Highway Administration (FHWA), four from the National Telecommunications Information Administration (NTIA), one from the Presidio Trust, six from the Tennessee Valley Authority (TVA), two from the U.S. Department of Homeland Security (DHS), one from the National Resource Conservation Service (NRCS), seven from the U.S. Forest Service (USFS), three from the Bureau of Land Management (BLM), one from the Bureau of Reclamation (BOR), one from the Office of Surface Mining Reclamation and Enforcement (OSMRE), one from the United States Fish and Wildlife Service (USFWS), and one from the United States Geological Survey (USGS). In accordance with section 109, this notice identifies the types of actions to which the NPS will apply the CEs, the considerations that the NPS will use in determining the applicability of the CEs, and the consultation between the agencies on the use of the CEs, including application of extraordinary circumstances.

DATES: The adoption is effective June 11, 2025.

FOR FURTHER INFORMATION CONTACT: David Jacob, Division Manager, Environmental Quality Division, david_jacob@nps.gov, telephone (720) 233-1507.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION:

I. National Environmental Policy Act and Categorical Exclusions

NEPA (42 U.S.C. 4321-4347, as amended) requires all Federal agencies to consider the environmental impact of their proposed actions before deciding whether and how to proceed. 42 U.S.C. 4321, 4332. NEPA's aims are to ensure that agencies consider the potential environmental effects of their proposed actions in their decision-making processes and inform and involve the public in that process. 42 U.S.C. 4332.

To comply with NEPA, agencies determine the appropriate level of review for a proposed action. 42 U.S.C. 4336. Where required, these levels of review may be documented in an environmental impact statement (EIS), an environmental assessment (EA), or by reliance on a CE. 42 U.S.C. 4336. If a proposed action is likely to have significant environmental effects, the agency will prepare an EIS and document its decision in a record of decision. 42 U.S.C. 4336(b)(1). If the proposed action is not likely to have significant environmental effects or where the level of significance is unknown, the agency will prepare an EA, which involves a more concise analysis and process than an EIS. 42 U.S.C. 4336(b)(2). Following preparation of an EA, the agency may reach a finding of no significant impact if the analysis shows that the action will have no significant effects. 42 U.S.C. 4336(b)(2). If, following preparation of an EA, the agency finds that the proposed action may have significant effects, it will prepare an EIS before issuing any decision to authorize the action.

Under NEPA, a Federal agency can establish CEs—categories of actions that the agency has determined normally do not significantly affect the quality of the human environment—in its agency NEPA procedures. 42 U.S.C. 4336(e)(1). If an agency determines that a CE covers a proposed action, it then evaluates the proposed action for any extraordinary circumstances in which a normally excluded action may have a significant effect. If no extraordinary circumstances are present, the agency may rely on the CE to approve the proposed action without preparing an EA or EIS. 42 U.S.C. 4336(a)(2).

Section 109 of NEPA, enacted as part of the Fiscal Responsibility Act of 2023, allows a Federal agency to “adopt a CE listed in another agency's NEPA procedures for a category of proposed agency actions for which the CE was established.” 42 U.S.C. 4336c. To rely on another agency's CEs under Section 109, the adopting agency must identify the relevant CE listed in that other agency's (“establishing agency”) NEPA procedures that cover the adopting agency's category of proposed actions or related actions; consult with the establishing agency to ensure that the proposed adoption of the CE for a category of actions is appropriate; identify to the public the CE that the adopting agency plans to use for its proposed actions; and document adoption of the CE. 42 U.S.C. 4336c.

The NPS has prepared this public notice of its adoption of 33 CEs to describe how it has met these statutory requirements. Five of the adopted CEs were established by FHWA at 23 CFR 771.117(c)(3), (c)(24), (c)(26), (c)(28) and (d)(13). Four CEs were established by NTIA at 89 FR 22688 (April 2, 2024), paragraphs C-5, C-6, C-7, and C-8. One CE was established by Presidio Trust at 36 CFR 1010.7(a)(21). Six CEs were established by TVA at 18 CFR part 1318(C), Appendix A, paragraphs 22, 29, 30, 33, 34, and 40. Two CEs were established by DHS at Department of Homeland Security Instruction Manual 023-01-001-01 rev .01, Appendix A, Table 1, *L26 and L42. One CE was established by NRCS at 7 CFR 650.6(d)(4) and seven CEs were established by the USFS found at 36 CFR 220.6(e)(1), (e)(6), (e)(7), (e)(18), (e)(19), (e)(24) and (e)(25). Seven CEs were from other bureaus in the Department of the Interior: three CEs established by BLM at 516 Departmental Manual (DM) 11.9.A (6), 11.9.E (12), and 11.9.I; one CE from BOR at 516 DM 14.5.C (4), one CE from OSMRE at 516 DM 13.5.B (33), one CE from USGS at 516 DM 9.5 (h), and one CE from USFWS at 516 DM 8.5.B (4).

The Department's NEPA procedures, found at 43 CFR part 46, address compliance with NEPA. The Department maintains a list of CEs available to all Department bureaus and offices at 43 CFR 46.210. Additional Department-wide NEPA policy is found in the DM, in chapters 1 through 4 of part 516, available at https://www.doi.gov/document-library. Supplementary NEPA procedures for the Department's bureaus are published in additional chapters of part 516 of the DM. Chapter 12 of the 516 DM sets forth the NPS's NEPA procedures, and NPS CEs are also listed in the NPS NEPA Handbook. (See https://www.doi.gov/sites/doi.gov/files/elips/documents/516-dm-12.pdf and https://www.nps.gov/subjects/nepa/upload/NPS_NEPAHandbook_Final_508.pdf.)

II. Identification of the Categorical Exclusions

The NPS has identified the following 33 CEs for adoption. Of these CEs, 29 will require documentation of each application, consistent with NPS guidance in the NPS NEPA Handbook. One CE from FHWA and one CE from DHS will not require documentation, as noted below.

FHWA Categorical Exclusions for Adoption

The NPS has identified for adoption 23 CFR 771.117(c)(3), regarding the construction of bicycle and pedestrian lanes, paths, and facilities. The NPS would interpret the term “path” to include “trail” or other similar words. The NPS would use the CE for bicycle lanes associated with existing roadways and pedestrian trails including associated pedestrian bridges, except in wilderness or backcountry areas. Under 36 CFR 4.30, national park units are currently restricted from using CEs to cover the construction of new bicycle trails including the significant modification of pedestrian or equestrian trails to accommodate bicycle use. If this provision is revised in the future, this CE may be used to cover bicycle trail construction except in wilderness or backcountry areas. Examples of NPS's intended uses of the CE for facilities include, but are not limited to, water fountains, bicycle racks, restrooms or rest stops, parking, or signage, in the immediate vicinity and connected to the development of a bicycle lane or pedestrian trail.

The NPS has identified for adoption 23 CFR 771.117(c)(24), regarding localized geotechnical and other investigation to provide information for preliminary design and for environmental analyses and permitting purposes, such as drilling test bores for soil sampling; archeological investigations for archeology resources assessment or similar survey; and wetland surveys. The NPS would apply this CE to the activities listed in the text of the CE or other similar activities. The NPS would not require documentation for application of this CE.

The NPS has identified for adoption 23 CFR 771.117(c)(26), regarding modernization of a highway by resurfacing, restoration, rehabilitation, reconstruction, adding shoulders, or adding auxiliary lanes (including parking, weaving, turning, and climbing lanes), if the action meets the constraints in paragraph (e) of that section. Examples of the NPS's intended uses include, but are not limited to, those described in the FHWA's CE. NPS interprets “highway” to include “park road.” The NPS would document the constraints outlined in 23 CFR 771.117(e)(1)-(6), which the NPS is also adopting as part of this CE. Those include: (1) An acquisition of more than a minor amount of right-of-way or that would result in any residential or non-residential displacements; (2) An action that needs a bridge permit from the U.S. Coast Guard, or an action that does not meet the terms and conditions of a U.S. Army Corps of Engineers nationwide or general permit under section 404 of the Clean Water Act and/or section 10 of the Rivers and Harbors Act of 1899; (3) A finding of “adverse effect” to historic properties under the National Historic Preservation Act, the use of a resource protected under 23 U.S.C. 138 or 49 U.S.C. 303 (section 4(f)) except for actions resulting in de minimis impacts), or a finding of “may affect, likely to adversely affect” threatened or endangered species or critical habitat under the Endangered Species Act; (4) Construction of temporary access or the closure of existing road, bridge, or ramps that would result in major traffic disruptions; (5) Changes in access control; (6) A floodplain encroachment other than functionally dependent uses (e.g., bridges, wetlands) or actions that facilitate open space use (e.g., recreational trails, bicycle and pedestrian paths); or construction activities in, across or adjacent to a river component designated or proposed for inclusion in the National System of Wild and Scenic Rivers.

Consistent with FHWA's application, the NPS may still apply (c)(26) even if these constraints in 771.117(e)(1)-(6) are triggered, pursuant to 771.117(d)(13), which the NPS is also adopting. Under this provision, (c)(26) may be used if there is documentation that demonstrates that the actions are covered by (c)(26) and significant environmental effects will not result. Thus, the NPS may use (c)(26) under (d)(13) if the justification clearly explains how the action fits within the category of actions the CE covers and there is a written explanation of why no significant environmental impacts will result.

The NPS would not complete a Section 4(f) review under criterion (e)(3) above when applying this CE to a NPS action on NPS-administered areas. Section 4(f) applies when a U.S. Department of Transportation (DOT) agency approves a transportation program or project that uses Section 4(f) property. The NPS is not required to make Section 4(f) determinations. If the NPS applies this CE to a DOT project, then DOT's determination would be documented under criterion (e)(3).

The NPS has identified for adoption 23 CFR 771.117(c)(28), regarding bridge rehabilitation, reconstruction, or replacement or the construction of grade separation to replace existing at-grade railroad crossings. The NPS would apply this CE to the activities listed in the text of the CE. The NPS would only apply this CE for removal and replacement of a bridge in the same location. The NPS would not use this CE solely for bridge demolition. The NPS would also apply the constraints in Section 771.117(e)(1)-(6) to this CE as well as (d)(13), just as described above for 23 CFR 771.117 (c)(26).

NTIA Categorical Exclusions for Adoption

The NPS has identified for adoption 89 FR 22688 (April 2, 2024), paragraph C-5, regarding installing, operating, maintaining, retrofitting, upgrading, repairing, removing, and/or replacing existing microwave or radio communication towers, instruments, structures, or buildings that do not require ground disturbance outside of the original footprint, including installing or co-locating equipment such as antennas, microwave dishes, or power units. For communications towers at or below 199 feet, renovations and equipment additions must not cause the total height of the tower to exceed 199 feet. Existing structures must not be eligible for listing in the National Register of Historic Places. The NPS would apply this CE to the activities listed in the text of the CE. Examples of how the NPS would use this CE include, but are not limited to, improving or installing communication towers or facilities without additional ground disturbance and updating a radio antenna that is not eligible for listing on the National Register of Historic Places that is mounted on a historic structure that is eligible. Consistent with NTIA's application of mitigations, the NPS will incorporate design features as an element of the proposed action itself, as well as construction actions that minimize impacts to resources, including applying best management practices as appropriate.

The NPS has identified for adoption 89 FR 22688 (April 2, 2024), paragraph C-6, regarding new construction or improvement of temporary buildings or experimental equipment (e.g., trailers, prefabricated buildings, and test slabs) on previously disturbed ground, with no more than 1 acre (0.4 hectare) of ground disturbance, where the proposed facility use is generally compatible with the surrounding land use and applicable zoning standards and will not require additional support infrastructure. The NPS would apply this CE to the activities listed in the text of the CE. The NPS's intended uses include, but are not limited to, installing temporary small communication structures in disturbed areas or installing temporary testing or research equipment such as seismic testing stations. Under this CE, facilities and installations placed outside of an existing facility footprint must be on previously disturbed ground. Consistent with NTIA's application of mitigations, the NPS will incorporate design features as an element of the proposed action itself, as well as construction actions that minimize impacts to resources, including applying best management practices as appropriate.

The NPS has identified for adoption 89 FR 22688 (April 2, 2024), paragraph C-7, regarding new construction of self-supporting (e.g., monopole or lattice) wireless communication towers at or below 199 feet with no guy wires and that require less than 1 acre (0.4 hectare) of ground disturbance. This NTIA CE also includes language that covers situations where another Federal agency would not require an EA or EIS for its acquisition, installation, operations, or maintenance for these towers. The NTIA applies this CE when they are installing broadband towers on other agency's lands. The NPS will not apply this provision of the CE since the NPS does not install towers on other agency lands and by applying the CE has the NPS will have determined that an EA or EIS is not necessary.

Examples of the NPS's intended uses of this CE include, but are not limited to, construction of all types of communication towers that meet the requirements of the CE text. Consistent with the NTIA's application of mitigations, the NPS will incorporate design features as an element of the proposed action itself, as well as construction actions that minimize impacts to resources, including applying best management practices as appropriate.

The NPS has identified for adoption 89 FR 22688 (April 2, 2024), paragraph C-8, regarding acquisition, installation, reconstruction, repair by replacement, and operation of aerial or buried utility (e.g., water, sewer, electrical), communication (e.g., fiber optic cable, data processing cable and similar electronic equipment), and security systems that use existing rights-of-way, easements, grants of license, distribution systems, facilities, or similar arrangements. Examples of the NPS's intended uses include, but are not limited to, improving repairing, or installing utilities such as water, sewer, electrical, or fiber optic utilities as needed in areas where rights-of-way or similar agreements already exist. The NPS would use this CE to cover all activities necessary for carrying out the activities covered under the CE, including but not limited to, staging and parking, construction, etc., that use existing rights-of-way, easements, grants of license, distribution systems, facilities, or similar arrangements. Consistent with the NTIA's application of mitigations, the NPS will incorporate design features as an element of the proposed action itself, as well as construction actions that minimize impacts to resources, including applying best management practices as appropriate.

The Presidio Trust Categorical Exclusion for Adoption

The NPS has identified for adoption 36 CFR 1010.7(a)(21), regarding the rehabilitation, modification, or improvement of historic properties that have been determined to be in conformance with the Secretary of the Interior's Standards for the Treatment of Historic Properties at 36 CFR 68 and that would have no or only minimal environmental impact. The NPS would use this CE for rehabilitation, modification or improvement activities that are in conformance with the Secretary of the Interior's Standards for Treatment of Historic Properties, consistent with the Presidio Trust's application. Examples of the NPS's intended use of the CE include the modification or rehabilitation of historic properties for a different purpose while still maintaining their historic characteristics.

TVA Categorical Exclusions for Adoption

The NPS has identified for adoption 18 CFR part 1318(C), Appendix A, paragraph (22), regarding development of dispersed recreation sites (generally not to exceed 10 acres in size) to support activities such as hunting, fishing, primitive camping, wildlife observation, hiking, and mountain biking. Actions include, but are not limited to, installation of guardrails, gates and signage, hardening and stabilization of sites, trail construction, and access improvements/controls. Examples of the NPS's intended uses of the CE include, but are not limited to, the development of multiple recreation components in one specific area, such as new hiking trail connections, restrooms, or small parking areas, or it may be applied to cover only one recreational action in an area. The CE is not intended to support developments or installations in developed zones. Instead, this CE is designed to cover recreational facilities in undeveloped, primitive areas where infrastructure and supporting facilities should be minimal.

The NPS has identified for adoption 18 CFR part 1318(C), Appendix A, paragraph (29), regarding actions to restore and enhance wetlands, riparian, and aquatic ecosystems that generally involve physical disturbance of no more than 10 acres, including, but not limited to, construction of small water control structures; revegetation actions using native materials; construction of small berms, dikes, and fish attractors; removal of debris and sediment following natural or human-caused disturbance events; installation of silt fences; construction of limited access routes for purposes of routine maintenance and management; and reintroduction or supplementation of native, formerly native, or established species into suitable habitat within their historic or established range. The NPS would use this CE for actions that result in an overall beneficial impact to wetlands, riparian, and aquatic ecosystems. Visitor infrastructure, such as raised trails or boardwalks, may be covered under this CE if the proposal aligns with the CE text and the primary purpose of the proposal is to restore and enhance wetlands, riparian, and aquatic ecosystems.

The NPS has identified for adoption 18 CFR part 1318(C), Appendix A, paragraph (30), regarding actions to maintain, restore, or enhance terrestrial ecosystems that generally involve physical disturbance of no more than 125 acres including, but not limited to, establishment and maintenance of non-invasive vegetation; bush hogging; prescribed fires; installation of nesting and roosting structures, fencing, and cave gates; and reintroduction or supplementation of native, formerly native, or established species into suitable habitat within their historic or established range. The NPS would use this CE for actions that result in an overall beneficial impact to terrestrial ecosystems. Consistent with TVA practice, the NPS would not use this CE for herbicide or pesticide use. Visitor infrastructure, such as raised trails or boardwalks, may be covered under this CE if the proposal aligns with the CE text and the primary purpose of the proposal is to maintain, restore, or enhance terrestrial ecosystems.

The NPS has identified for adoption 18 CFR part 1318(C), Appendix A, paragraph (33), regarding actions to protect cultural resources including, but not limited to, fencing, gating, signing, and bank stabilization (generally up to ½ mile in length when along stream banks or reservoir shoreline). The NPS would use this CE for actions that result in an overall beneficial impact on cultural resources.

The NPS has identified for adoption 18 CFR part 1318(C), Appendix A, paragraph (34), regarding reburial of human remains and funerary objects under the Native American Graves Protection and Repatriation Act that are inadvertently discovered or intentionally excavated on TVA land. “TVA land” would be interpreted as “within an NPS-administered area” when used.

The NPS has identified for adoption18 CFR part 1318(C), Appendix A, paragraph (40), regarding demolition and disposal of structures, buildings, equipment and associated infrastructure and subsequent site reclamation, subject to applicable review for historical value, on sites generally less than 10 acres in size. Examples of the NPS's intended uses of the CE include, but are not limited to, removal of structures that pose a safety hazard, are in disrepair or no longer needed. This CE would be used to remove or demolish historic structures after Section 106 consultation is complete.

DHS, U.S. Coast Guard (USCG), Categorical Exclusions for Adoption

The NPS has identified for adoption Department of Homeland Security Instruction Manual 023-01-001-01 Rev 01, Appendix A, Table 1, *L26 ¹, regarding maintenance dredging and debris disposal where no new depths are required, applicable permits are secured, and disposal will be at an existing approved disposal site. Examples of the NPS's intended uses are consistent with those described in the USCG CE which includes, but is not limited to, dredging activities around piers and docks. Consistent with the USCG's application, the NPS would use this CE for actions that fit within a U.S. Army Corps of Engineers Nationwide Permit under Section 404 of the Clean Water Act and/or Section 10 of the Rivers and Harbors Act of 1899. The Nationwide Permits authorize activities that have minimal individual and cumulative adverse effects on the aquatic environment.

¹ 1 NPS is adopting CE *L26, which is listed in the USCG-specific section of Table 1. CE *D5, which applies more broadly, contains similar language.

The NPS has identified for adoption Department of Homeland Security Instruction Manual 023-01-001-01 Rev 01, Appendix A, Table 1, L42 regarding environmental site characterization studies and environmental monitoring including: siting, constructing, operating, and dismantling or closing of characterization and monitoring devices. Such activities include, but are not limited to, the following: conducting geological, geophysical, geochemical, and engineering surveys and mapping, including the establishment of survey marks; installing and operating field instruments, such as stream-gauging stations or flow-measuring devices, telemetry systems, geochemical monitoring tools, and geophysical exploration tools; drilling wells for sampling or monitoring of groundwater, well logging, and installation of water-level recording devices in wells; conducting aquifer response testing; installing and operating ambient air monitoring equipment; and sampling and characterizing: water, soil, rock, or contaminants, water effluents, air emissions, solid waste streams, flora or fauna; and conducting archeological, historic, and cultural resource identification and evaluation studies in compliance with 36 CFR part 800 regarding protection of historic properties and 43 CFR part 7 regarding protection of archeological resources. The NPS's intended uses are consistent with these USCG applications listed in the CE. Consistent with the USCG's application, the NPS would not require documentation of the application of this CE.

NRCS Categorical Exclusion for Adoption

The NPS has identified for adoption 7 CFR 650.6(d)(4), regarding replacing and repairing existing culverts, grade stabilization, and water control structures and other small structures that were damaged by natural disasters where there is no new depth required and only minimal dredging, excavation, or placement of fill is required. The NRCS applies this CE to activities required for the replacement in kind of water control structures or culverts and other water control related structures, such as pumping stations. The NPS would use this CE consistent with these NRCS uses.

USFS Categorical Exclusions for Adoption

The NPS has identified for adoption 36 CFR 220.6(e)(1), regarding construction and reconstruction of trails. Examples include, but are not limited to, constructing or reconstructing a trail to a scenic overlook and reconstructing an existing trail to allow use by handicapped individuals. The NPS would utilize this CE to connect existing trails, establish trails between existing public use sites, or establish new trails. Application of this CE may be restricted by the NPS bicycle rule at 36 CFR 4.30. The NPS would not apply this CE to off-road vehicle routes.

The NPS has identified for adoption 36 CFR 220.6(e)(6), regarding timber stand and/or wildlife habitat improvement activities that do not include the use of herbicides or do not require more than one mile of low standard road construction. Examples include but are not limited to: girdling trees to create snags; thinning or brush control to improve growth or to reduce fire hazard including the opening of an existing road to a dense timber stand; prescribed burning to control understory hardwoods in stands of southern pine; and prescribed burning to reduce natural fuel build-up and improve plant vigor. The NPS intends to use this CE for site-specific controlled or prescribed burns and all types of hazardous fuel treatments, as outlined in park Fire Management Plans and in accordance with NPS Management Policies and applicable authorities.

The NPS has identified for adoption 36 CFR 220.6(e)(7), regarding modification or maintenance of stream or lake aquatic habitat improvement structures using native materials or normal practices. Examples include but are not limited to: reconstructing a gabion with stone from a nearby source; adding brush to lake fish beds; and cleaning and resurfacing a fish ladder at a hydroelectric dam. The NPS intends to use this CE consistent with how USFS has used the CE, including but not limited to, restoration of fish and macroinvertebrate habitats, water quality improvement for stream or lake habitats, or stream erosion control.

The NPS has identified for adoption 36 CFR 220.6(e)(18), regarding restoring wetlands, streams, riparian areas or other water bodies by removing, replacing, or modifying water control structures such as, but not limited to, dams, levees, dikes, ditches, culverts, pipes, drainage tiles, valves, gates, and fencing, to allow waters to flow into natural channels and floodplains and restore natural flow regimes to the extent practicable, where valid existing rights or special use authorizations are not unilaterally altered or canceled. Examples include but are not limited to: repairing an existing water control structure that is no longer functioning properly with minimal dredging, excavation, or placement of fill, when it does not involve releasing hazardous substances; installing a newly-designed structure that replaces an existing culvert to improve aquatic organism passage and prevent resource and property damage where the road or trail maintenance level does not change; removing a culvert and installing a bridge to improve aquatic and/or terrestrial organism passage or prevent resource or property damage where the road or trail maintenance level does not change; and removing a small earthen and rock fill dam with a low hazard potential classification that is no longer needed. Some of the activities described in the CE may be inconsistent with National Park Service Management Policies and other applicable authorities in certain instances. The NPS intends to use this CE consistent with the examples in the CE text, when consistent with applicable authorities.

The NPS has identified for adoption 36 CFR 220.6(e)(19), regarding removing and/or relocating debris and sediment following disturbance events (such as floods, hurricanes, tornados, mechanical/engineering failures, etc.) to restore uplands, wetlands, or riparian systems to pre-disturbance conditions, to the extent practicable, such that site conditions will not impede or negatively alter natural processes. Examples include, but are not limited to: removing an unstable debris jam on a river following a flood event and relocating it back in the floodplain and stream channel to restore water flow and local bank stability; cleaning up and removing infrastructure flood debris, such as benches, tables, outhouses, concrete, culverts, and asphalt following a hurricane, from a stream reach and adjacent wetland area; and stabilizing stream banks and associated stabilization structures to reduce erosion through bioengineering techniques following a flood event, including the use of living and nonliving plant materials in combination with natural and synthetic support materials, such as rocks, riprap, geo-textiles, for slope stabilization, erosion reduction, and vegetative establishment and establishment of appropriate plant communities (bank shaping and planting, brush mattresses, log, root wad, and boulder stabilization methods). The NPS intends to use this CE consistent with USFS applications and in response to emergency situations. Examples include, but are not limited to, the removal of unclaimed property such as boats after storm events, the removal of debris or trash from coral reefs or beaches, and the removal of sand or other sediments from parking areas, trails, or roads that are blocked after storms or other natural disasters.

The NPS has identified for adoption 36 CFR 220.6(e)(24), regarding construction and realignment of up to 2 miles of NFS roads and associated parking areas. Examples include, but are not limited to, constructing an NFS road to improve access to a trailhead or parking area, rerouting an NFS road to minimize resource impacts; and improving or upgrading the surface of an NFS road to expand its capacity. The NPS would use this CE to cover minor road reroutes and other projects to address access and parking. “NFS road” would be interpreted as “park road” when used, consistent with 36 CFR 1.4.

The NPS has identified for adoption 36 CFR 220.6(e)(25), regarding forest and grassland management activities with a primary purpose of meeting restoration objectives or increasing resilience. Activities to improve ecosystem health, resilience, and other watershed and habitat conditions may not exceed 2,800 acres. Activities to meet restoration and resilience objectives may include, but are not limited to: stream restoration, aquatic organism passage rehabilitation, or erosion control; invasive species control and reestablishment of native species; prescribed burning; reforestation; road and/or trail decommissioning (system and non-system); pruning; vegetation thinning; and timber harvesting. The following requirements or limitations apply to this category: projects shall be developed or refined through a collaborative process that includes multiple interested persons representing diverse interests; vegetation thinning or timber harvesting activities shall be designed to achieve ecological restoration objectives, but shall not include salvage harvesting as defined in Agency policy; and construction and reconstruction of permanent roads is limited to 0.5 miles. Construction of temporary roads is limited to 2.5 miles, and all temporary roads shall be decommissioned no later than 3 years after the date the project is completed. Projects may include repair and maintenance of NFS roads and trails to prevent or address resource impacts; repair and maintenance of NFS roads and trails is not subject to the above mileage limits. “NFS road” would be interpreted as “park road” when used, consistent with 36 CFR 1.4. The NPS intends to use this CE for restoration activities in accordance with NPS Management Policies and applicable authorities and prescribed fires consistent as outlined in park Fire Management Plans.

BLM Categorical Exclusions for Adoption

The NPS has identified for adoption 516 DM 11.9.A(6), regarding relocation of nuisance or depredating wildlife, providing the relocation does not introduce new species into the ecosystem. The NPS would use this CE consistent with the activities described in the CE text.

The NPS has identified for adoption 516 DM 11.9.E (12), regarding grants of right-of-way wholly within the boundaries of other compatibly developed rights-of-way. Consistent with the BLM application of this CE, the right-of-way may expand beyond the boundaries of existing disturbance but must be within the existing right-of-way. The NPS would use this CE to cover permitting, construction, and maintenance of a right-of-way.

The NPS has identified for adoption 516 DM 11.9.I, regarding planned actions in response to wildfires, floods, weather events, earthquakes, or landslips that threaten public health or safety, property, and/or natural and cultural resources, that are necessary to repair or improve lands unlikely to recover to a management-approved condition as a result of the event. Such activities shall be limited to: repair and installation of essential erosion control structures; replacement or repair of existing culverts, roads, trails, fences, and minor facilities; construction of protection fences; planting, seeding, and mulching; and removal of hazard trees, rocks, soil, and other mobile debris from, on, or along roads, trails, campgrounds, and watercourses. These activities: shall be completed within one year following the event; shall not include the use of herbicides or pesticides; shall not include the construction of new roads or other new permanent infrastructure; shall not exceed 4,200 acres; may include temporary roads which are defined as roads authorized by contract, permit, lease, other written authorization, or emergency operation not intended to be part of the BLM transportation system and not necessary for long-term resource management. Temporary roads shall be designed to standards appropriate for the intended uses, considering safety, cost of transportation, and impacts on land and resources; and shall require the treatment of temporary roads constructed or used to permit the reestablishment by artificial or natural means, or vegetative cover on the roadway and areas where the vegetative cover was disturbed by the construction or use of the road, as necessary to minimize erosion from the disturbed area. Such treatment shall be designed to reestablish vegetative cover as soon as practicable, but at least within 10 years after the termination of the contract. The NPS would apply this CE consistent with the examples listed in the text of the CE, including but not limited to emergency road repair following natural disasters. The reference to “BLM” would be interpreted to refer to “NPS.”

BOR Categorical Exclusion for Adoption

The NPS has identified for adoption 516 DM 14.5.C (4), regarding approval of land management plans where implementation will only result in minor construction activities and resultant increased operation and maintenance activities. The NPS would interpret the term “land management plans” to cover both site-specific plans and broader plans like general management plans that provide land management direction. Consistent with BOR practice, the NPS would not use this CE to cover visitor managed access plans.

OSMRE Categorical Exclusion for Adoption

The NPS has identified for adoption 516 DM 13.5.B (33), regarding abandoned mine lands (AML) reclamation projects involving: No more than 100 acres; no hazardous wastes; no explosives; no hazardous or explosive gases; no dangerous impoundments; no mine fires and refuse fires; no undisturbed, noncommercial borrow or disposal sites, no dangerous slides where abatement has the potential for damaging inhabited property; no subsidences involving the placement of material into underground mine voids through drilled holes to address more than one structure, and no unresolved issues with agencies, persons, or groups or adverse effects requiring specialized mitigation. All sites considered in this CE would have to first meet the eligibility test in sections 404, 409 and 411 of Surface Mining Control Reclamation Act (SMCRA). Also, projects that have been declared an emergency pursuant to section 410 of SMCRA, may be candidates for this exclusion. The text of the original CE also references the Departmental exceptions in 516 DM 2, Appendix 2, which is no longer applicable. Consistent with OSMRE's application of this CE, the extraordinary circumstances cover this requirement, thus the NPS would not address this text when applying the CE. See OSMRE Handbook on Procedures for Implementing the National Environmental Policy Act, 6-3, July 2019.

The NPS would use this CE consistent with OSMRE applications listed in the CE, including but not limited to, AML reclamation in parks with pre-1977 AML features or in emergency situations where there is a collapse, drainage issue, or subsidence due to AML.

USGS Categorical Exclusion for Adoption

The NPS has identified for adoption 516 DM 9.5 (h), regarding establishment of survey marks, placement and operation of field instruments, and installation of any research/monitoring devices. Consistent with the USGS, the NPS would apply this CE consistent with the language of the CE, which includes, but is not limited to, monitoring equipment, as needed after emergency situations, to monitor earthquakes or other weather-related events, or to mark areas for research or survey purposes.

USFWS Categorical Exclusion for Adoption

The NPS has identified for adoption 516 DM 8.5.B(4), regarding the use of prescribed burning for habitat improvement purposes, when conducted in accordance with local and State ordinances and laws. Consistent with the USFWS application, the NPS would apply this CE for prescribed fires with at least one documented habitat improvement objective and that are conducted in accordance with local and State ordinances and laws.

III. Geographical Scope

FHWA, NTIA, DHS/USCG, NRCS, USFS, USGS and USFWS have approved projects located throughout the U.S. in reliance on their respective CEs. The environmental impacts of the activities conducted by these agencies and bureaus in reliance on their CEs are similar to those activities that the NPS would routinely conduct and for whose approval the NPS would rely on the adopted CEs.

The Presidio Trust only approves projects involving historic structures in the San Francisco area. However, the impacts from the actions covered by its CEs would be similar for historic structures regardless of their location. The BLM and BOR primarily operate in the western United States, while the TVA facilities are located in the eastern United States. Despite geographic differences among some of the establishing agencies and the NPS, the environmental impacts of activities conducted by these agencies using their CEs are comparable to those conducted by the NPS, which would rely on the adopted CEs for approval.

IV. Consideration of Extraordinary Circumstances

In consultation with the establishing agencies, the NPS evaluated the extraordinary circumstances to be considered when applying these CEs. When applying these CEs, Responsible Officials (43 CFR 46.30) within the NPS will evaluate proposed actions covered by the CEs to determine whether any extraordinary circumstances, listed at 43 CFR 46.215, are present and preclude reliance on the CE. Responsible Officials in the NPS are required to review any proposed action for which they intend to rely on a CE, as provided at 43 CFR 46.205, by comparing it with the list at 43 CFR 46.215 and documenting that review in accordance with any applicable Departmental or bureau NEPA or program guidance.

The Department's list of extraordinary circumstances is comparable to those of the FHWA (23 CFR 771.116(b)), the NTIA (89 FR 22688 (April 2, 2024)), the Presidio Trust (36 CFR 1010.7(b)), the TVA (18 CFR 1318.201), the DHS/USCG (Instruction Manual 023-01-001-01 Rev 01, paragraph V(B)(2)(c)), the NRCS (7 CFR 650.6(c)), and the USFS (36 CFR 220.6(b)). Therefore, Responsible Officials in the NPS intending to rely on a FHWA, NTIA, Presidio Trust, TVA, DHS/USCG, NRCS, or USFS CE will need to review the proposed action only in accordance with the Department's NEPA regulations at 43 CFR 46.205 and 46.215. And because the BOR, OSMRE, BLM, USGS, and USFWS use the same Departmental extraordinary circumstances as the NPS, Responsible Officials in the NPS relying on a CE from one of those bureaus will review the proposed action in accordance with these same Departmental provisions.

The Responsible Official will review whether the proposed action has the potential to result in significant effects as described in the Department's extraordinary circumstances. If the Responsible Official cannot rely on a CE to support a decision on a particular proposed action due to extraordinary circumstances, the Responsible Official will prepare an EA or EIS, consistent with 43 CFR 46.205(c).

V. Consultation With Agencies and Determination of Appropriateness

In January through April of 2025, the Department consulted with the FHWA, NTIA, Presidio Trust, TVA, DHS/USCG, NRCS, USFS, BLM, BOR, OSMRE, USFWS, and USGS about the appropriateness of the Department's adoption of their respective CEs. Those consultations each included a review of each agency's or bureau's experience in establishing and applying the CEs, as well as the types of actions for which the NPS plans to use the CEs. Based on those consultations and reviews, the Department has determined that the types of activities the NPS proposes to authorize are substantially similar to the activities for which the FHWA, NTIA, Presidio Trust, TVA, DHS/USCG, NRCS, USFS, BLM, BOR, OSMRE, USFWS, and USGS have applied their respective CEs. Accordingly, the impacts of the NPS-authorized actions would be substantially similar to the impacts of each establishing agency and bureau's actions, which are not significant, absent extraordinary circumstances. Therefore, the Department has determined that the NPS's proposed use of the FHWA, NTIA, Presidio Trust, TVA, DHS/USCG, NRCS, USFS, BLM, BOR, OSMRE, USFWS, and USGS CEs to support NPS decisions to improve park resources is appropriate.

VI. Notice to the Public and Documentation of Adoption

This notice identifies to the public that the NPS is adopting 33 CEs from FHWA, NTIA, Presidio Trust, TVA, DHS/USCG, NRCS, USFS, BLM, BOR, OSMRE, USFWS, and USGS. The notice identifies the types of actions to which the NPS would apply these CEs. Upon issuance of this notice, the adopted FHWA, NTIA, Presidio Trust, TVA, DHS/USCG, NRCS, USFS, BLM, BOR, OSMRE, USFWS, and USGS CEs will be available for the NPS to rely upon. The documentation of these CE adoptions is available at https://www.nps.gov/subjects/nepa/policy.htm and at https://www.doi.gov/oepc/nepa/categorical-exclusions. The NPS will add the adopted CEs to NPS's DM Chapter at 516 DM 12.

Authorities

National Environmental Policy Act of 1969, as amended (42 U.S.C. 4321 et seq.).

Stephen G. Tryon,
Director, Office of Environmental Policy and Compliance.

[FR Doc. 2025-10629 Filed 6-10-25; 8:45 am]

BILLING CODE P